Title 3—

The President

Presidential Determination No. 2007-17 of April 25, 2007

Transfer of Defense Articles and Services in Support of the Southern Sudan Security Sector Reform (SSR) Program

Memorandum for the Secretary of State

Pursuant to the authority vested in me by the Constitution and laws of the United States, including section 40(g) of the Arms Export Control Act (AECA) and section 301 of title 3, United States Code, I hereby:

• Determine and certify that the transaction, encompassing U.S. Government-funded transfers and commercial exports of defense articles and services necessary for an SSR program for the security sector of the Government of Southern Sudan, including support for: transformation of the Sudan People's Liberation Army from a guerrilla force into a smaller, conventional force; the Sudan People's Liberation Movement; a protective service detail, police service, intelligence, and other law enforcement entities of the Government of Southern Sudan; and private entities involved in the SSR program, is essential to the national security interests of the United States;

• Waive the prohibitions in section 40 of the AECA related to such a transaction; and

• Assign to you the functions of the President under section 40(g)(2) of the AECA to consult with and submit reports to the Congress for proposed specific transfers or exports, 15 days prior to permitting them to proceed, that are necessary for and within the scope of this waiver determination and the transaction referred to herein.

You are authorized and directed to report this determination to the Congress and arrange for its publication in the Federal Register.

THE WHITE HOUSE,

Washington, August 28, 2006.

[FR Doc. 07-2319

Filed 5-8-07; 8:45 am]

Billing code 4710-10-P